DEPARTMENT OF EDUCATION

[CFDA Numbers: 84.007, 84.033, 84.038, 84.063, and 84.268.]

Free Application for Federal Student Aid (FAFSA®) Information To Be Verified for the 2015-2016 Award Year

AGENCY: Office of Postsecondary Education, Department of Education.

ACTION: Notice.

SUMMARY: For each award year, the Secretary publishes in the Federal Register a notice announcing the FAFSA information that an institution and an applicant may be required to verify, as well as the acceptable documentation for verifying FAFSA information. This is the notice for the 2015-2016 award year.

FOR FURTHER INFORMATION CONTACT: Jacquelyn C. Butler, U.S. Department of Education, 1990 K Street NW., Room 8053, Washington, DC 20006. Telephone: (202) 502-7890.

If you use a telecommunications device for the deaf (TDD) or a text telephone (TTY), call the Federal Relay Service (FRS), toll free, at 1-800-877-8339.

Individuals with disabilities can obtain this document in an accessible format (e.g., braille, large print, audiotape, or compact disc) on request to the program contact person listed under FOR FURTHER INFORMATION CONTACT.

SUPPLEMENTARY INFORMATION: The Secretary will include on the applicant's Institutional Student Information Record (ISIR) flags that will indicate that the applicant has been selected by the Secretary for verification and the Verification Tracking Group that the applicant has been placed in, which in turn indicates which FAFSA information needs to be verified for that applicant and, if appropriate, the applicant's parent(s) or spouse. The Student Aid Report (SAR) provided to the applicant will indicate that the applicant's FAFSA information has been selected for verification and direct the applicant to the institution for further instructions for completing the verification process.

The following chart lists, for the 2015-2016 award year, the FAFSA information that an institution and an applicant and, if appropriate, the applicant's parent(s) or spouse, may be required to verify under 34 CFR 668.56. The chart also lists the acceptable documentation that must be provided under § 668.57 to an institution for that information to be verified.

FAFSA information | Acceptable documentation
Income information for tax filers 1 3 | For income information listed under items a through g for tax filers—
a. Adjusted Gross Income (AGI) b. U.S. Income Tax Paid c. Untaxed Portions of IRA Distributions d. Untaxed Portions of Pensions e. IRA Deductions and Payments f. Tax Exempt Interest Income g. Education Credits | (1) Tax year 2014 information that the Secretary has identified as having been obtained from the Internal Revenue Service (IRS) through the IRS Data Retrieval Tool ² and that has not been changed after the information was obtained from the IRS; or (2) A transcript ² obtained from the IRS that lists tax account information of the tax filer for tax year 2014.
h. Other Untaxed Income | For tax filers required to verify other untaxed income, a statement signed by the applicant and, if the applicant is a dependent student, by one of the applicant's parents that lists—
| (1) The sources of other untaxed income as provided under section 480(b) of the Higher Education Act of 1965, as amended (HEA), and the amount of income from each source for tax year 2014; and
| (2) A copy of IRS Form W-2 ⁴ for each source of employment income received for tax year 2014.
Income information for tax filers with special circumstances 1 3 a. Adjusted Gross Income (AGI) b. U.S. Income Tax Paid c. Untaxed Portions of IRA Distributions d. Untaxed Portions of Pensions e. IRA Deductions and Payments f. Tax Exempt Interest Income g. Education Credits | (1) For a student or the parent(s) of a dependent student who filed a 2014 joint income tax return and whose income is used in the calculation of the applicant's expected family contribution and who at the time the FAFSA was completed was separated, divorced, widowed, or married to someone other than the individual included on the 2014 joint income tax return— (a) A transcript ² obtained from the IRS that lists tax account information of the tax filer(s) for tax year 2014; and (b) A copy of IRS Form W-2 ⁴ for each source of employment income received for tax year 2014. (2) For an individual who is required to file a 2014 IRS income tax return and has been granted a filing extension by the IRS— (a) A copy of IRS Form 4868, “Application for Automatic Extension of Time to File U.S. Individual Income Tax Return,” that the individual filed with the IRS for tax year 2014; (b) If applicable, a copy of the IRS's approval of an extension beyond the automatic six-month extension if the individual requested an additional extension of the filing time for tax year 2014; (c) A copy of IRS Form W-2 ⁴ for each source of employment income received for tax year 2014; and (d) If self-employed, a signed statement certifying the amount of AGI and U.S. income tax paid for tax year 2014.
| Note: An institution may require that, after the income tax return is filed, an individual granted a filing extension submit tax information using the IRS Data Retrieval Tool ² or by obtaining a transcript ² from the IRS that lists tax account information for tax year 2014. When an institution receives such information, it must be used to reverify the FAFSA information contained on the transcript ².
h. Other Untaxed Income | (3) For tax filers with special circumstances who are required to verify other untaxed income, a statement signed by the applicant and, if the applicant is a dependent student, by one of the applicant's parents, that lists the sources of other untaxed income as provided under section 480(b) of the HEA and the amount of income from each source for tax year 2014.
Income information for nontax filers | For an individual who has not filed and, under IRS rules or other applicable government agency rules, is not required to file a 2014 income tax return—
a. Income earned from work | (1) A signed statement certifying—
| (a) That the individual has not filed and is not required to file an income tax return for tax year 2014;
| (b) The sources of income earned from work and the amount of income from each source for tax year 2014;
b. Other Untaxed Income | (c) For nontax filers required to verify other untaxed income, the source of income as provided under section 480(b) of the HEA and the amount of income from each source for tax year 2014; and
| (2) A copy of IRS Form W-2 ⁴ for each source of employment income received for tax year 2014.
| Note: If an institution has reason to believe that the signed statement provided by the applicant regarding whether the applicant has not filed and is not required to file a 2014 income tax return is inaccurate, the institution must request that the applicant obtain confirmation of non-filing from the IRS.
Number of Household Members | A statement signed by the applicant and, if the applicant is a dependent student, by one of the applicant's parents that lists the name and age of each household member and the relationship of that household member to the applicant.
| Note: Verification of number of household members is not required if—
| • For a dependent student, the household size indicated on the ISIR is two and the parent is single, separated, divorced, or widowed, or the household size indicated on the ISIR is three if the parents are married or unmarried and living together; or
| • For an independent student, the household size indicated on the ISIR is one and the applicant is single, separated, divorced, or widowed, or the household size indicated on the ISIR is two if the applicant is married.
Number in College | (1) A statement signed by the applicant and, if the applicant is a dependent student, by one of the applicant's parents listing the name and age of each household member who is or will be attending an eligible postsecondary educational institution as at least a half-time student in the 2015-2016 award year in a program that leads to a degree or certificate and the name of that educational institution.
| (2) If an institution has reason to believe that the signed statement provided by the applicant regarding the number of household members enrolled in eligible postsecondary institutions is inaccurate, the institution must obtain documentation from each institution named by the applicant that the household member in question is, or will be, attending on at least a half-time basis unless—
| (a) The applicant's institution determines that such documentation is not available because the household member in question has not yet registered at the institution the household member plans to attend; or
| (b) The institution has documentation indicating that the household member in question will be attending the same institution as the applicant.
| Note: Verification of the number of household members in college is not required if the number in college indicated on the ISIR is “1.”
Supplemental Nutrition Assistance Program (SNAP, formerly known as the Food Stamp Program) | (1) A statement signed by the applicant or, if the applicant is a dependent student, by one of the applicant's parents affirming that SNAP benefits were received by someone in the household during the 2013 and/or 2014 calendar year.
| (2) If an institution has reason to believe that the signed statement provided by the applicant regarding the receipt of SNAP benefits is inaccurate, the applicant must provide the institution with documentation from the agency that issued the SNAP benefits.
| Note: Verification of the receipt of SNAP benefits is not required if the receipt of SNAP benefits is not indicated on the applicant's ISIR.
Child Support Paid | (1) A statement signed by the applicant or parent, as appropriate, certifying—
| (a) The amount of child support paid;
| (b) The name of the person who paid the child support;
| (c) The name of the person to whom child support was paid; and
| (d) The names and ages of the children for whom child support was paid.
| (2) If the institution has reason to believe that the information provided in the signed statement is inaccurate, the institution must obtain documentation such as—
| (a) A copy of the separation agreement or divorce decree that shows the amount of child support to be provided;
| (b) A statement from the individual receiving the child support showing the amount received; or
| (c) Documentation that the child support payments were made (e.g., copies of the child support checks, money order receipts, or similar records of electronic payments having been made).
| Note: Verification of child support paid is not required if child support paid is not indicated on the applicant's ISIR.
High School Completion Status | (1) High School Diploma
| (a) A copy of the applicant's high school diploma;
| (b) A copy of the applicant's final official high school transcript that shows the date when the diploma was awarded; or
| (c) A copy of the “secondary school leaving certificate” (or other similar document) for students who completed secondary education in a foreign country and are unable to obtain a copy of their high school diploma or transcript.
| Note: Institutions that have the expertise may evaluate foreign secondary school credentials to determine their equivalence to U.S. high school diplomas. Institutions may also use a foreign diploma evaluation service for this purpose.
| (2) Recognized Equivalent of a High School Diploma
| (a) General Educational Development (GED) Certificate or GED transcript;
| (b) A State certificate or transcript received by a student after the student has passed a State-authorized examination (HiSET, TASC, or other State-authorized examination) that the State recognizes as the equivalent of a high school diploma;
| (c) An academic transcript that indicates the student successfully completed at least a two-year program that is acceptable for full credit toward a bachelor's degree at any participating institution; or
| (d) For a person who is seeking enrollment in an educational program that leads to at least an associate degree or its equivalent and who excelled academically in high school but did not finish, documentation from the high school that the student excelled academically and documentation from the postsecondary institution that the student has met its written policies for admitting such students.
| (3) Homeschool
| (a) If the State where the student was homeschooled requires by law that such students obtain a secondary school completion credential for homeschool (other than a high school diploma or its recognized equivalent), a copy of that credential; or
| (b) If State law does not require the credential noted in 3a), a transcript or the equivalent signed by the student's parent or guardian that lists the secondary school courses the student completed and documents the successful completion of a secondary school education in a homeschool setting.
| Note: In cases where documentation of an applicant's completion of a secondary school education is unavailable, e.g., the secondary school is closed and information is not available from another source, such as the local school district or a State Department of Education, or in the case of homeschooling, the parent(s)/guardian(s) who provided the homeschooling is deceased, an institution may accept alternative documentation to verify the applicant's high school completion status.
| When documenting an applicant's high school completion status, an institution may rely on documentation it has already collected for purposes other than the Title IV verification requirements if the documentation meets the criteria outlined above (e.g., high school transcripts maintained in the admissions office).
Identity/Statement of Educational Purpose | (1) An applicant must appear in person and present the following documentation to an institutionally authorized individual to verify the applicant's identity:
| (a) A valid government-issued photo identification such as, but not limited to, a driver's license, non-driver's identification card, other State-issued identification, or passport. The institution must maintain an annotated copy of the valid government-issued photo identification that includes—
| i. The date the identification was presented; and
| ii. The name of the institutionally authorized individual who reviewed the identification; and
| (b) A signed statement using the exact language as follows, except that the student's identification number is optional if collected elsewhere on the same page as the statement:
| Statement of Educational Purpose
| I certify that I ________ (Print Student's Name) am the individual signing this Statement of Educational Purpose and that the Federal student financial assistance I may receive will only be used for educational purposes and to pay the cost of attending _________________ (Name of Postsecondary Educational Institution) for 2015-2016.
| ____________________
| (Student's Signature) (Date)
| ____________________
| (Student's ID Number)
| (2) If an institution determines that an applicant is unable to appear in person to present a valid photo identification and execute the Statement of Educational Purpose, the applicant must provide the institution with—
| (a) A copy of a valid government-issued photo identification such as, but not limited to, a driver's license, non-driver's identification card, other State-issued identification, or passport that is acknowledged in a notary statement or a copy of the valid photo identification presented to a notary; and
| (b) An original notarized statement signed by the applicant using the exact language as follows, except that the student's identification number is optional if collected elsewhere on the same page as the statement:
| Statement of Educational Purpose
| I certify that I ________ (Print Student's Name) am the individual signing this Statement of Educational Purpose and that the Federal student financial assistance I may receive will only be used for educational purposes and to pay the cost of attending _____________ (Name of Postsecondary Educational Institution) for 2015-2016.
| __________________
| (Student's Signature) (Date)
| __________________
| (Student's ID Number)
¹ A tax filer who filed an income tax return other than an IRS form, such as a foreign or Puerto Rican tax form, must use the income information (converted to U.S. dollars) from the lines of that form that correspond most closely to the income information reported on a U.S. income tax return. An institution may also accept a transcript obtained from a government of a U.S. territory or commonwealth, or a foreign central government that includes all of the tax filer's income and tax information required to be verified for tax year 2014.
² An institution may accept a copy of a 2014 income tax return for tax filers who are unable to use the IRS Data Retrieval Tool or obtain an IRS Tax Return Transcript consistent with guidance that the Secretary may provide (e.g., victims of identity theft, individuals who filed an amended tax return, individuals who filed an income tax return other than an IRS form, or individuals with authentication issues with the IRS). The copy must include the signature of the tax filer or of one of the filers of a joint income tax return or the signed, stamped, typed, or printed name and address of the preparer of the income tax return and the preparer's Social Security Number, Employer Identification Number, or Preparer Tax Identification Number.
³ If a tax filer did not retain a copy of his or her 2014 tax account information and that information cannot be located by the IRS or a government of a U.S. territory or commonwealth or a foreign central government, the institution must accept—
(a) A copy of IRS Form W-2 (see footnote 4) for each source of employment income received for tax year 2014 and, if self-employed, a signed statement certifying the amount of AGI and taxes paid for that self-employment for tax year 2014; or
(b) A copy of a wage and tax statement or a signed statement by an individual who has filed an income tax return with a government of a U.S. territory or commonwealth or a foreign central government certifying the amount of AGI and taxes paid for tax year 2014.
⁴ An individual who is required to submit an IRS Form W-2 but did not maintain his or her copy should request a duplicate copy from the employer who issued the original W-2. If the individual is unable to obtain one in a timely manner, the institution may permit that individual to provide a signed statement, in accordance with 34 CFR 668.57(a)(6), that includes—
(a) The amount of income earned from work;
(b) The source of that income; and
(c) The reason why the IRS Form W-2 is not available in a timely manner.

Other Sources for Detailed Information

We provide a more detailed discussion on the verification process in the following resources:

• 2015-2016 Application and Verification Guide.

• 2015-2016 ISIR Guide.

• 2015-2016 SAR Comment Codes and Text.

• 2015-2016 COD Technical Reference.

• Program Integrity Information—Questions and Answers on Verification at http://www2.ed.gov/policy/highered/reg/hearulemaking/2009/verification.html.

These publications are on the Information for Financial Aid Professionals Web site at www.ifap.ed.gov.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. 1070a, 1070a-1, 1070b-1070b-4, 1070c-1070c-4, 1070g, 1071-1087-2, 1087a-1087j, and 1087aa-1087ii; 42 U.S.C. 2751-2756b.

Dated: June 20, 2014.
Lynn B. Mahaffie,
Acting Assistant Secretary for Postsecondary Education.

[FR Doc. 2014-14895 Filed 6-24-14; 8:45 am]

BILLING CODE 4000-01-P